INTERNATIONAL TRADE COMMISSION

[Investigation Nos. 731-TA-340-E and 340-H (Fourth Review)]

Solid Urea From Russia and Ukraine; Termination of Five-Year Reviews

AGENCY: United States International Trade Commission.

ACTION: Notice.

SUMMARY: The Commission instituted the subject five-year reviews in November 2016 to determine whether revocation of the antidumping duty orders on solid urea from Russia and Ukraine would be likely to lead to continuation or recurrence of material injury. On December 30, 2016, the Department of Commerce published notice that it was revoking the orders effective December 20, 2016, because the domestic interested parties did not participate in its sunset reviews (81 FR 96434). Accordingly, the subject reviews are terminated.

DATES: Effective Date: January 9, 2017.

FOR FURTHER INFORMATION CONTACT: Drew Dushkes (202-205-3229), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: These reviews are being terminated under authority of title VII of the Tariff Act of 1930 and pursuant to section 751(c) of the Tariff Act of 1930 (19 U.S.C. 1675(c)). This notice is published pursuant to section 207.69 of the Commission's rules (19 CFR 207.69).

By order of the Commission.
Issued: January 9, 2017.
William R. Bishop,
Supervisory Hearings and Information Officer.

[FR Doc. 2017-00638 Filed 1-12-17; 8:45 am]

BILLING CODE 7020-02-P